DEPARTMENT OF COMMERCE

International Trade Administration

[A-602-809, A-351-845, A-588-874, A-580-883, A-421-813, A-489-826, A-412-825]

Certain Hot-Rolled Steel Flat Products From Australia, Brazil, Japan, the Republic of Korea, the Netherlands, the Republic of Turkey, and the United Kingdom: Amended Final Affirmative Antidumping Determinations for Australia, the Republic of Korea, and the Republic of Turkey and Antidumping Duty Orders

AGENCY: Enforcement and Compliance, International Trade Administration, Department of Commerce.

SUMMARY: Based on affirmative final determinations by the Department of Commerce (the Department) and the International Trade Commission (the ITC), the Department is issuing antidumping duty orders on certain hot-rolled steel flat products (hot-rolled steel) from Australia, Brazil, Japan, the Republic of Korea, the Netherlands, the Republic of Turkey, and the United Kingdom. In addition, the Department is amending its final determinations of sales at less-than-fair-value (LTFV) from Australia, the Republic of Korea, and the Republic of Turkey, as a result of ministerial errors.

DATES: Effective October 3, 2016.

FOR FURTHER INFORMATION CONTACT: Frances Veith at (202) 482-4295 (Australia); Peter Zukowski at (202) 482-0189 (Brazil); Myrna Lobo at (202) 482-2371 (Japan); Matthew Renkey at (202) 482-2312 (the Republic of Korea (Korea)); Dmitry Vladimirov at (202) 482-0665, (the Netherlands); Toni Page at (202) 482-1398 (the Republic of Turkey (Turkey)); and Catherine Cartsos at (202) 482-1757 (the United Kingdom), AD/CVD Operations, Enforcement and Compliance, U.S. Department of Commerce, 1401 Constitution Avenue NW., Washington, DC 20230.

SUPPLEMENTARY INFORMATION:

Background

In accordance with sections 735(a) and 777(i)(1) of the Tariff Act of 1930, as amended (the Act), and 19 CFR 351.210(c), on August 4, 2016, the Department made affirmative final determinations in the LTFV investigations of certain hot-rolled steel flat from Australia, Brazil, Japan, Korea, the Netherlands, Turkey, and the United Kingdom. Pursuant to section 735(d) of the Act, the Department published the affirmative final determinations on August 12, 2016. ¹

¹ See Certain Hot-Rolled Steel Flat Products From Australia: Final Determination of Sales at Less Than Fair Value, 81 FR 53406 (August 12, 2016) (“Australia Final”); Certain Hot-Rolled Steel Flat Products From Brazil: Final Determination of Sales at Less Than Fair Value and Final Affirmative Determination of Critical Circumstances, in Part, 81 FR 53426 (August 12, 2016) (“Brazil Final”); Certain Hot-Rolled Steel Flat Products From Japan: Final Determination of Sales at Less Than Fair Value and Final Affirmative Determination of Critical Circumstances, 81 FR 53409 (August 12, 2016) (“Japan Final”); Certain Hot-Rolled Steel Flat Products From the Republic of Korea: Final Determination of Sales at Less Than Fair Value, 81 FR 53419 (August 12, 2016) (“Korea Final”); Certain Hot-Rolled Steel Flat Products From the Netherlands: Final Determination of Sales at Less Than Fair Value and Negative Final Determination of Critical Circumstances, 81 FR 53421 (August 12, 2016) (“Netherlands Final”); Certain Hot-Rolled Steel Flat Products From the Republic of Turkey: Final Determination of Sales at Less Than Fair Value, 81 FR 53428 (August 12, 2016) (“Turkey Final”); Certain Hot-Rolled Steel Flat Products From the United Kingdom: Final Determination of Sales at Less Than Fair Value, 81 FR 53436, (August 12, 2016) (“United Kingdom Final”).

On August 15, 2016, Petitioners ² alleged that the Department made ministerial errors in the Australia Final.³ A ministerial error is defined as an error in addition, subtraction, or other arithmetic function, clerical error resulting from inaccurate copying, duplication, or the like, and any other similar type of unintentional error which the Secretary considers ministerial.⁴ On August 10, 2016, Petitioners and Hyundai Steel Company alleged that the Department made ministerial errors in the Korea Final. On August 15, 2016, POSCO submitted rebuttal comments to Petitioners' allegation, and Petitioners submitted rebuttal comments to Hyundai Steel Company's allegation.⁵ On August 11 and 12, 2016, mandatory respondent Colakoglu Metalurji A.S. and its affiliates (collectively Colakoglu),⁶ and Petitioners ⁷ alleged that the Department made ministerial errors in the Turkey Final. See “Amendment to the Australia Final Determination,” “Amendment to the Korea Final Determination,” and “Amendment to the Turkey Final Determinations” sections below for further discussion.

² United States Steel Corporation (U.S. Steel) submitted comments on behalf of petitioners, i.e., AK Steel Corporation, ArcelorMittal USA LLC, Nucor Corporation, SSAB Enterprises, LLC, Steel Dynamics, Inc., and United States Steel Corporation (collectively “Petitioners”).

³ See Letter to the Secretary of Commerce from U.S. Steel, dated August 15, 2016.

⁴ See section 735(e) of the Act and 19 CFR 351.224(f).

⁵ See Letter to the Secretary of Commerce from POSCO, dated August 15, 2016.

⁶ See Letter to the Secretary of Commerce from Colakoglu, dated August 11, 2016.

⁷ See Letter to the Secretary of Commerce from Petitioners, dated August 12, 2016.

On September 26, 2016, the ITC notified the Department of its affirmative determination that an industry in the United States is materially injured within the meaning of section 735(b)(1)(A)(i) of the Act, by reason of LTFV imports of hot-rolled steel from Australia, Brazil, Japan, Korea, the Netherlands, Turkey, and the United Kingdom and of its determination that critical circumstances do not exist with respect to imports of hot-rolled steel from Brazil and Japan.⁸

⁸ See Letter to Christian Marsh, Deputy Assistant Secretary of Commerce for Enforcement and Compliance, from Irving Williamson, Chairman of the U.S. International Trade Commission, regarding antidumping and countervailing duty investigations concerning imports of certain hot-rolled steel flat products from Australia, Brazil, Japan, Korea, the Netherlands, Turkey, and the United Kingdom (Investigation Nos. 701-TA-545-547 and 731-TA-1291-1297 (September 26, 2016) (ITC Letter).

Scope of the Orders

The product covered by these orders is hot-rolled steel from Australia, Brazil, Japan, Korea, the Netherlands, Turkey, and the United Kingdom. For a complete description of the scope of these orders, see Appendix I.

Amendment to Australia Final Determination

As discussed above, the Department reviewed the record and agrees that the two errors referenced in Petitioners' allegation constitute ministerial errors within the meaning of section 735(e) of the Act and 19 CFR 351.224(f).⁹ Specifically, the Department neglected to fully adjust BlueScope Steel Ltd.'s normal value for processing revenue and freight revenue.¹⁰ Pursuant to 19 CFR 351.224(e), the Department is amending the Australia Final to reflect the correction of the ministerial errors described above. Based on our correction, BlueScope Steel Ltd.'s weighted-average dumping margin increased from 29.37 percent to 29.58 percent. Because the Australian “all-others” rate is based solely on BlueScope Steel Ltd.'s dumping margin, the corrections noted above also increase the all-others rate determined in the Australia Final to 29.58 percent.¹¹

⁹ See Memorandum to Christian Marsh, Deputy Assistant Secretary for Antidumping and Countervailing Duty Operations regarding, “Antidumping Duty Investigation of Certain Hot-Rolled Steel Flat Products from Australia: Allegation of Ministerial Errors in the Final Determination,” (September 16, 2016).

¹⁰ Id.

¹¹ Id.

Amendment to Korea Final Determination

The Department reviewed the record and agrees that the error referenced in Petitioners' allegation with respect to POSCO constitutes a ministerial error within the meaning of section 735(e) of the Act and 19 CFR 351.224(f), whereas neither the errors alleged by Hyundai Steel Company, nor the error alleged by Petitioners with respect to Hyundai Steel Company, are ministerial errors.¹² Specifically, the programming code used in POSCO's final margin calculation program did not correctly implement certain revised indirect selling expense figures.¹³ Additionally, we find that the alleged errors regarding our final Hyundai Steel Company margin calculation are methodological, rather than ministerial, in nature.¹⁴ Pursuant to 19 CFR 351.224(e), the Department is amending the Korea Final to reflect the correction of the ministerial error in POSCO's final margin calculation described above. Based on our correction, POSCO's weighted-average dumping margin increased from 3.89 percent to 4.61 percent. Because the Korean “all-others” rate is based in part on POSCO's dumping margin, the correction noted above also increases the all-others rate determined in the Korea Final to 6.05 percent.¹⁵

¹² See Memorandum to Christian Marsh, Deputy Assistant Secretary for Antidumping and Countervailing Duty Operations regarding, “Antidumping Duty Investigation of Certain Hot-Rolled Steel Flat Products from Korea: Allegation of Ministerial Errors in the Final Determination,” (September 23, 2016).

¹³ Id.

¹⁴ Id.

¹⁵ Id.

Amendment to Turkey Final Determination

The Department reviewed the record and agrees that the error referenced in Colakoglu's allegation and the errors referenced in Petitioners' allegation constitute ministerial errors within the meaning of section 735(e) of the Act and 19 CFR 351.224(f).¹⁶ Specifically, the Department utilized the incorrect denominator in its calculation of Colakoglu's indirect selling expenses ratio.¹⁷ Pursuant to 19 CFR 351.224(e), the Department is amending the Turkey Final to reflect the correction of the ministerial error described above. Based on our correction, Colakoglu's weighted-average dumping margin decreased from 7.15 percent to 6.77 percent.¹⁸ In reference to the ministerial errors alleged by Petitioners, the Department inadvertently omitted direct credit expenses from the calculation of Ereğli Demir ve Çelik Fabrikalari T.A.Ş. and its Affiliates (collectively Erdemir) comparison market gross unit price adjustment.¹⁹ The Department also erred in inputting raw data into the comparison market program to account for the control numbers that were sold but not produced during the POI for Erdemir.²⁰ Finally, the Department incorrectly applied the export subsidy adjustment to the U.S. net price for Erdemir.²¹ Pursuant to 19 CFR 351.224(e), the Department is amending the Turkey Final to reflect the correction of the ministerial errors described above. However, because the ITC found imports subsidized by the government of Turkey to be negligible,²² thereby resulting in the termination of the companion countervailing duty investigation of hot-rolled steel from Turkey,²³ we are further amending the Turkey Final to eliminate any adjustment to cash deposit rates for export subsidies.²⁴ Based on our corrections, Erdemir's weighted-average dumping margin increased from 3.66 percent to 4.15 percent.²⁵ Because the Turkish “all-others” rate is based on Colakoglu's and Erdemir's dumping margins, the corrections noted above also increases the all-others rate determined in the Turkey Final to 6.41 percent.²⁶

¹⁶ See Memorandum to Christian Marsh, Deputy Assistant Secretary for Antidumping and Countervailing Duty Operations regarding, “Antidumping Duty Investigation of Certain Hot-Rolled Steel Flat Products from the Republic of Turkey: Allegation of Ministerial Errors in the Final Determination,” (September 27, 2016) (Turkey Ministerial Error Memorandum).

¹⁷ Id.

¹⁸ Id.

¹⁹ Id.

²⁰ Id.

²¹ Id.

²² See ITC Letter.

²³ See section 735(c)(2) of the Act.

²⁴ See Turkey Ministerial Error Memorandum.

²⁵ Id.

²⁶ Id.

Antidumping Duty Orders

In accordance with sections 735(b)(1)(A)(i) and 735(d) of the Act, the ITC has notified the Department of its final determinations that an industry in the United States is materially injured by reason of the LTFV imports of certain hot-rolled steel from Australia, Brazil, Japan, Korea, the Netherlands, Turkey, and the United Kingdom.²⁷ Therefore, in accordance with section 735(c)(2) of the Act, we are publishing these antidumping duty orders. Because the ITC determined that imports of hot-rolled steel from Australia, Brazil, Japan, Korea, the Netherlands, Turkey, and the United Kingdom are materially injuring a U.S. industry, unliquidated entries of such merchandise from these countries, entered or withdrawn from warehouse for consumption, are subject to the assessment of antidumping duties.

²⁷ See ITC Letter.

Australia, Brazil, Japan, Korea, the Netherlands, Turkey, and the United Kingdom

In accordance with section 736(a)(1) of the Act, the Department will direct U.S. Customs and Border Protection (CBP) to assess, upon further instruction by the Department, antidumping duties equal to the amount by which the normal value of the merchandise exceeds the export price (or constructed export price) of the merchandise, for all relevant entries of hot-rolled steel from Australia, Brazil, Japan, Korea, the Netherlands, Turkey, and the United Kingdom. Antidumping duties will be assessed on unliquidated entries of hot-rolled steel products from Australia, Brazil, Japan, Korea, the Netherlands, Turkey, and the United Kingdom entered, or withdrawn from warehouse, for consumption on or after March 22, 2016, the date of publication of the preliminary determination, ²⁸ but will not include entries occurring after the expiration of the provisional measures period and before publication of the ITC's final injury determination as further described below.

²⁸ See Certain Hot-Rolled Steel Flat Products from Australia: Preliminary Determination of Sales at Less Than Fair Value and Postponement of Final Determination, 81 FR 15241 (March 22, 2016) (“Australia Prelim”); Certain Hot-Rolled Steel Flat Products From Brazil: Affirmative Preliminary Determination of Sales at Less Than Fair Value, Postponement of Final Determination and Extension of Provisional Measures, 81 FR 15235 (March 22, 2016) (Brazil Prelim); Certain Hot-Rolled Steel Flat Products from Japan: Preliminary Determination of Sales at Less Than Fair Value and Postponement of Final Determination, 81 FR 15222 (March 22, 2016) (Japan Prelim); Certain Hot-Rolled Steel Flat Products from the Republic of Korea: Affirmative Preliminary Determination of Sales at Less than Fair Value and Postponement of Final Determination, 81 FR 15228 (March 22, 2016) (Korea Prelim); Certain Hot-Rolled Steel Flat Products from the Netherlands: Affirmative Preliminary Determination of Sales at Less Than Fair Value, Postponement of Final Determination and Extension of Provisional Measures, 81 FR 15225 (March 22, 2016) (Netherlands Prelim); Certain Hot-Rolled Steel Flat Products From the Republic of Turkey: Affirmative Preliminary Determination of Sales at Less Than Fair Value and Postponement of Final Determination, 81 FR 15231 (March 22, 2016) (Turkey Prelim); and Certain Hot-Rolled Steel Flat Products From the United Kingdom: Affirmative Preliminary Determination of Sales at Less Than Fair Value, Postponement of Final Determination and Extension of Provisional Measures, 81 FR 15244 (March 22, 2016) (United Kingdom Prelim).

Suspension of Liquidation

In accordance with section 735(c)(1)(B) of the Act, we will instruct CBP to continue to suspend liquidation on all relevant entries of hot-rolled steel from Australia, Brazil, Japan, Korea, the Netherlands, Turkey, and the United Kingdom. These instructions suspending liquidation will remain in effect until further notice.

We will also instruct CBP to require cash deposits equal to the amounts as indicated below. Accordingly, effective on the date of publication of the ITC's final affirmative injury determination, CBP will require, at the same time as importers would normally deposit estimated duties on this subject merchandise, a cash deposit equal to the estimated weighted-average dumping margins listed below.²⁹ The “all others” rate applies to all producers or exporters not specifically listed, as appropriate. For the purpose of determining cash deposit rates, the estimated weighted-average dumping margins for imports of subject merchandise from Brazil and Korea have been adjusted, as appropriate, for export subsidies found in the final determinations of the companion countervailing duty investigations of this merchandise imported from Brazil and Korea.³⁰ For Turkey, as noted above, because of the ITC's finding of negligible subsidized imports, we have not made any adjustment to cash deposit rates for export subsidies for imports of subject merchandise from Turkey.³¹

²⁹ See section 736(a)(3) of the Act.

³⁰ See Brazil Final and Korea Final.

³¹ See ITC Letter; see also Turkey Ministerial Error Memorandum.

Provisional Measures

Section 733(d) of the Act states that instructions issued pursuant to an affirmative preliminary determination may not remain in effect for more than four months, except where exporters representing a significant proportion of exports of the subject merchandise request the Department to extend that four-month period to no more than six months. At the request of exporters that account for a significant proportion of hot-rolled steel from Australia, Brazil, Japan, Korea, the Netherlands, Turkey, and the United Kingdom, the Department extended the four-month period to six months in each case.³² In the underlying investigations, the Department published the preliminary determinations on March 22, 2016. Therefore, the extended period, beginning on the date of publication of the preliminary determination, ended on September 17, 2016. Furthermore, section 737(b) of the Act states that definitive duties are to begin on the date of publication of the ITC's final injury determination.

³² See Australia Prelim, Brazil Prelim, Japan Prelim, Korea Prelim, Netherlands Prelim, Turkey Prelim, and United Kingdom Prelim.

Therefore, in accordance with section 733(d) of the Act and our practice,³³ we will instruct CBP to terminate the suspension of liquidation and to liquidate, without regard to antidumping duties, unliquidated entries of hot-rolled steel from Australia, Brazil, Japan, Korea, the Netherlands, Turkey, and the United Kingdom entered, or withdrawn from warehouse, for consumption after September 17, 2016, until and through the day preceding the date of publication of the ITC's final injury determination in the Federal Register. Suspension of liquidation will resume on the date of publication of the ITC's final determination in the Federal Register.

³³ See, e.g., Certain Corrosion-Resistant Steel Products From India, Italy, the People's Republic of China, the Republic of Korea and Taiwan: Amended Final Affirmative Antidumping Determination for India and Taiwan, and Antidumping Duty Orders, 81 FR 48390 (July 25, 2016).

Critical Circumstances

With regard to the ITC's negative critical circumstances determination on imports of hot-rolled steel from Brazil and Japan, we will instruct CBP to lift suspension and to refund any cash deposits made to secure the payment of estimated antidumping duties with respect to entries of hot-rolled steel from Brazil and Japan entered, or withdrawn from warehouse, for consumption on or after December 23, 2015 (i.e., 90 days prior to the date of publication of the preliminary determinations), but before March 22, 2016 (i.e., the date of publication of the preliminary determinations).

Estimated Weighted-Average Dumping Margins

The weighted-average antidumping duty margin percentages are as follows:

Exporter/producer | Weighted- average margin (%) | Cash-deposit rate (%)
Australia
BlueScope Steel Ltd. | 29.58 |
All Others | 29.58 |
Brazil ³⁴
Companhia Siderurgica Nacional | 33.14 | 29.07
Usinas Siderurgicas de Minas Gerais | 34.28 | 30.51
All Others | 33.14 | 29.07
Japan
JFE Steel Corporation | 7.51 |
Nippon Steel & Sumitomo Metal Corporation | 4.99 |
All Others | 5.58 |
Korea ³⁵
Hyundai Steel Company | 9.49 | 9.49
POSCO | 4.61 | 0.00
All Others | 6.05 | 6.05
Netherlands
Tata Steel Ijmuiden B.V | 3.73 |
All Others | 3.73 |
Turkey
Colakoglu Metalurji A.S./Colakoglu Dis Ticaret A.S | 6.77 |
Ereğli Demir ve Çelik Fabrikaları T.A.Ş/Iskenderun Demir ve Çelik T.A.Ş | 4.15 |
All Others | 6.41 |
United Kingdom
Tata Steel U.K. Ltd | 33.06 |
All Others | 33.06 |

This notice constitutes the antidumping duty orders with respect to hot-rolled steel from Australia, Brazil, Japan, Korea, the Netherlands, Turkey, and the United Kingdom pursuant to section 736(a) of the Act. Interested parties can find a list of antidumping duty orders currently in effect at http://enforcement.trade.gov/stats/iastats1.html.

³⁴ The cash deposit rates are adjusted to account for the applicable export subsidy rates.

³⁵ Id.

These orders are published in accordance with section 736(a) of the Act and 19 CFR 351.211(b).

Dated: September 27, 2016.
Paul Piquado,
Assistant Secretary for Enforcement and Compliance.

Appendix I

Scope of the Orders

The products covered by these orders are certain hot-rolled, flat-rolled steel products, with or without patterns in relief, and whether or not annealed, painted, varnished, or coated with plastics or other non-metallic substances. The products covered do not include those that are clad, plated, or coated with metal. The products covered include coils that have a width or other lateral measurement (“width”) of 12.7 mm or greater, regardless of thickness, and regardless of form of coil (e.g., in successively superimposed layers, spirally oscillating, etc.). The products covered also include products not in coils (e.g., in straight lengths) of a thickness of less than 4.75 mm and a width that is 12.7 mm or greater and that measures at least 10 times the thickness. The products described above may be rectangular, square, circular, or other shape and include products of either rectangular or non-rectangular cross-section where such cross-section is achieve subsequent to the rolling process, i.e., products which have been “worked after rolling” (e.g., products which have been beveled or rounded at the edges). For purposes of the width and thickness requirements referenced above:

(1) Where the nominal and actual measurements vary, a product is within the scope if application of either the nominal or actual measurement would place it within the scope based on the definitions set forth above unless the resulting measurement makes the product covered by the existing antidumping ³⁶ or countervailing duty ³⁷ orders on Certain Cut-To-Length Carbon-Quality Steel Plate Products From the Republic of Korea (A-580-836; C-580-837), and

³⁶ Notice of Amendment of Final Determinations of Sales at Less Than Fair Value and Antidumping Duty Orders: Certain Cut-To-Length Carbon-Quality Steel Plate Products From France, India, Indonesia, Italy, Japan and the Republic of Korea, 65 FR 6585 (February 10, 2000).

³⁷ Notice of Amended Final Determinations: Certain Cut-to-Length Carbon-Quality Steel Plate From India and the Republic of Korea; and Notice of Countervailing Duty Orders: Certain Cut-To-Length Carbon-Quality Steel Plate From France, India, Indonesia, Italy, and the Republic of Korea, 65 FR 6587 (February 10, 2000).

(2) where the width and thickness vary for a specific product (e.g., the thickness of certain products with non-rectangular cross-section, the width of certain products with non-rectangular shape, etc.), the measurement at its greatest width or thickness applies.

Steel products included in the scope of these orders are products in which: (1) Iron predominates, by weight, over each of the other contained elements; (2) the carbon content is 2 percent or less, by weight; and (3) none of the elements listed below exceeds the quantity, by weight, respectively indicated:

• 2.50 percent of manganese, or

• 3.30 percent of silicon, or

• 1.50 percent of copper, or

• 1.50 percent of aluminum, or

• 1.25 percent of chromium, or

• 0.30 percent of cobalt, or

• 0.40 percent of lead, or

• 2.00 percent of nickel, or

• 0.30 percent of tungsten, or

• 0.80 percent of molybdenum, or

• 0.10 percent of niobium, or

• 0.30 percent of vanadium, or

• 0.30 percent of zirconium.

Unless specifically excluded, products are included in these scopes regardless of levels of boron and titanium.

For example, specifically included in these scopes are vacuum degassed, fully stabilized (commonly referred to as interstitial-free (IF)) steels, high strength low alloy (HSLA) steels, the substrate for motor lamination steels, Advanced High Strength Steels (AHSS), and Ultra High Strength Steels (UHSS). IF steels are recognized as low carbon steels with micro-alloying levels of elements such as titanium and/or niobium added to stabilize carbon and nitrogen elements. HSLA steels are recognized as steels with micro-alloying levels of elements such as chromium, copper, niobium, titanium, vanadium, and molybdenum. The substrate for motor lamination steels contains micro-alloying levels of elements such as silicon and aluminum. AHSS and UHSS are considered high tensile strength and high elongation steels, although AHSS and UHSS are covered whether or not they are high tensile strength or high elongation steels.

Subject merchandise includes hot-rolled steel that has been further processed in a third country, including but not limited to pickling, oiling, levelling, annealing, tempering, temper rolling, skin passing, painting, varnishing, trimming, cutting, punching, and/or slitting, or any other processing that would not otherwise remove the merchandise from the scope of these orders if performed in the country of manufacture of the hot-rolled steel.

All products that meet the written physical description, and in which the chemistry quantities do not exceed any one of the noted element levels listed above, are within the scope of these orders unless specifically excluded. The following products are outside of and/or specifically excluded from the scope of these orders:

• Universal mill plates (i.e., hot-rolled, flat-rolled products not in coils that have been rolled on four faces or in a closed box pass, of a width exceeding 150 mm but not exceeding 1250 mm, of a thickness not less than 4.0 mm, and without patterns in relief);

• Products that have been cold-rolled (cold-reduced) after hot-rolling; ³⁸

³⁸ For purposes of this scope exclusion, rolling operations such as a skin pass, levelling, temper rolling or other minor rolling operations after the hot-rolling process for purposes of surface finish, flatness, shape control, or gauge control do not constitute cold-rolling sufficient to meet this exclusion.

• Ball bearing steels; ³⁹

³⁹ Ball bearing steels are defined as steels which contain, in addition to iron, each of the following elements by weight in the amount specified: (i) Not less than 0.95 nor more than 1.13 percent of carbon; (ii) not less than 0.22 nor more than 0.48 percent of manganese; (iii) none, or not more than 0.03 percent of sulfur; (iv) none, or not more than 0.03 percent of phosphorus; (v) not less than 0.18 nor more than 0.37 percent of silicon; (vi) not less than 1.25 nor more than 1.65 percent of chromium; (vii) none, or not more than 0.28 percent of nickel; (viii) none, or not more than 0.38 percent of copper; and (ix) none, or not more than 0.09 percent of molybdenum.

• Tool steels; ⁴⁰ and

⁴⁰ Tool steels are defined as steels which contain the following combinations of elements in the quantity by weight respectively indicated: (i) More than 1.2 percent carbon and more than 10.5 percent chromium; or (ii) not less than 0.3 percent carbon and 1.25 percent or more but less than 10.5 percent chromium; or (iii) not less than 0.85 percent carbon and 1 percent to 1.8 percent, inclusive, manganese; or (iv) 0.9 percent to 1.2 percent, inclusive, chromium and 0.9 percent to 1.4 percent, inclusive, molybdenum; or (v) not less than 0.5 percent carbon and not less than 3.5 percent molybdenum; or (vi) not less than 0.5 percent carbon and not less than 5.5 percent tungsten.

• Silico-manganese steels; ⁴¹

⁴¹ Silico-manganese steel is defined as steels containing by weight: (i) Not more than 0.7 percent of carbon; (ii) 0.5 percent or more but not more than 1.9 percent of manganese, and (iii) 0.6 percent or more but not more than 2.3 percent of silicon.

The products covered by these orders are currently classified in the Harmonized Tariff Schedule of the United States (HTSUS) under item numbers: 7208.10.1500, 7208.10.3000, 7208.10.6000, 7208.25.3000, 7208.25.6000, 7208.26.0030, 7208.26.0060, 7208.27.0030, 7208.27.0060, 7208.36.0030, 7208.36.0060, 7208.37.0030, 7208.37.0060, 7208.38.0015, 7208.38.0030, 7208.38.0090, 7208.39.0015, 7208.39.0030, 7208.39.0090, 7208.40.6030, 7208.40.6060, 7208.53.0000, 7208.54.0000, 7208.90.0000, 7210.70.3000, 7211.14.0030, 7211.14.0090, 7211.19.1500, 7211.19.2000, 7211.19.3000, 7211.19.4500, 7211.19.6000, 7211.19.7530, 7211.19.7560, 7211.19.7590, 7225.11.0000, 7225.19.0000, 7225.30.3050, 7225.30.7000, 7225.40.7000, 7225.99.0090, 7226.11.1000, 7226.11.9030, 7226.11.9060, 7226.19.1000, 7226.19.9000, 7226.91.5000, 7226.91.7000, and 7226.91.8000. The products covered by these orders may also enter under the following HTSUS numbers: 7210.90.9000, 7211.90.0000, 7212.40.1000, 7212.40.5000, 7212.50.0000, 7214.91.0015, 7214.91.0060, 7214.91.0090, 7214.99.0060, 7214.99.0075, 7214.99.0090, 7215.90.5000, 7226.99.0180, and 7228.60.6000.

The HTSUS subheadings above are provided for convenience and U.S. Customs purposes only. The written description of the scope of these orders is dispositive.

[FR Doc. 2016-23836 Filed 9-30-16; 8:45 a.m.]

BILLING CODE 3510-DS-P